DEPARTMENT OF ENERGY

Federal Energy Regulatory Commission

Combined Notice of Filings #1

Take notice that the Commission received the following electric corporate filings:

Docket Numbers: EC06-129-007.

Applicants: Capital Research and Management Company, Capital Group International, Inc., Capital International, Inc., Capital International Limited, Capital International Sàrl, Capital International KK, Capital Guardian Trust Company.

Description: Request for Extension of Blanket Authorization Under Section 203 of the Federal Power Act of Capital Research and Management Company, et al.

Filed Date: 8/3/18.

Accession Number: 20180803-5187.

Comments Due: 5 p.m. ET 8/24/18.

Docket Numbers: EC18-132-000.

Applicants: Linde Energy Services, Inc.

Description: Application for Authorization under Section 203 of the Federal Power Act, et al. of Linde Energy Services, Inc.

Filed Date: 8/3/18.

Accession Number: 20180803-5156.

Comments Due: 5 p.m. ET 8/24/18.

Take notice that the Commission received the following electric rate filings:

Docket Numbers: ER10-2317-000; ER10-2331-000; ER13-1351-000.

Applicants: BE CA LLC, J.P. Morgan Ventures Energy Corporation, Florida Power Development LLC.

Description: Supplement to June 4, 2018 Notice of Non-Material Change in Status of the J.P. Morgan Sellers, et al.

Filed Date: 7/23/18.

Accession Number: 20180723-5227.

Comments Due: 5 p.m. ET 8/13/18.

Docket Numbers: ER18-2144-000; ES18-54-000.

Applicants: Big Sky North, LLC.

Description: Request for Waivers and Blanket Authorization to Issue Securities and Assume Liabilities of Big Sky North, LLC, et al.

Filed Date: 8/2/18.

Accession Number: 20180802-5137.

Comments Due: 5 p.m. ET 8/23/18.

Docket Numbers: ER18-2161-000.

Applicants: American Transmission Systems, Incorporated, PJM Interconnection, L.L.C.

Description: § 205(d) Rate Filing: ATSI submits 4 ECSAs, Service Agreement Nos. 4968, 4977, 4978, and 5028 to be effective 10/6/2018.

Filed Date: 8/6/18.

Accession Number: 20180806-5005.

Comments Due: 5 p.m. ET 8/27/18.

Docket Numbers: ER18-2163-000; ER18-2164-000; ER18-2165-000; ER18-2166-000; ER18-2167-000; ER18-2168-000; ER18-2169-000; ER18-2170-000; ER18-2171-000; ER18-2172-000; ER18-2173-000.

Applicants: Burley Butte Wind Park, LLC, Camp Reed Wind Park, LLC, Golden Valley Wind Park, LLC, Milner Dam Wind Park, LLC, Oregon Trail Wind Park, LLC, Payne's Ferry Wind Park, LLC, Pilgrim Stage Station Wind Park, LLC, Salmon Falls Wind Park, LLC, Thousand Springs Wind Park, LLC, Tuana Gulch Wind Park, LLC, Yahoo Creek Wind Park, LLC.

Description: Notice of Cancellation of Market Base Rate tariff of Burley Butte Wind Park, LLC, et al.

Filed Date: 8/3/18.

Accession Number: 20180803-5192.

Comments Due: 5 p.m. ET 8/24/18.

Take notice that the Commission received the following public utility holding company filings:

Docket Numbers: PH18-12-000.

Applicants: AltaGas Ltd., WGL Holdings, Inc.

Description: AltaGas Ltd., et al. submits FERC 65-A Notice of Change in Facts of Exemption Notification.

Filed Date: 8/3/18.

Accession Number: 20180803-5165.

Comments Due: 5 p.m. ET 8/24/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 6, 2018.
Nathaniel J. Davis, Sr.,
Deputy Secretary.

[FR Doc. 2018-17199 Filed 8-9-18; 8:45 am]

BILLING CODE 6717-01-P